GENERAL SERVICES ADMINISTRATION

[Notice—PBS-2024-07; Docket No. 2024-0002; Sequence No. 32]

Notice of Availability for the Final Environmental Impact Statement for the Buildings 202, 214 and 220 South State Street, Chicago, Illinois.

AGENCY: U.S. General Services Administration (GSA).

ACTION: Notice of availability (NOA).

SUMMARY: The GSA, in cooperation with the U.S. Federal Protective Service and in accordance with the National Environmental Policy Act (NEPA), announces the availability of the Final Environmental Impact Statement (EIS) for the future of 202, 214, and 220 South State Street, Chicago, Illinois. The Final EIS analyzed the potential environmental impacts of GSA's Proposed Action to address the future of the vacant buildings GSA owns at 202, 214, and 220 South State Street between Adams Street and Jackson Boulevard, adjacent to the Everett McKinley Dirksen U.S. Courthouse (Dirksen Courthouse) in downtown Chicago, Illinois. GSA considered two action alternatives (Alternative A, Demolition, and Alternative B, Viable Adaptive Reuse) and a No Action Alternative. The Final EIS states the purpose and need for the Proposed Action, analyzes alternatives considered, and assesses environmental impacts of each alternative, including avoidance, minimization, and mitigation measures. GSA has selected Viable Adaptive Reuse (Alternative B) as its Preferred Alternative.

DATES: Publication Period: The Final EIS is published with this notice of availability (NOA) in the Federal Register until Monday September 2, 2024. Written comments must be received by the last day of this publishing period (see ADDRESSES section of this NOA on how to submit comments). After this period, GSA will issue the Record of Decision (ROD).

ADDRESSES: Comments concerning the Final EIS should be directed to:

• Email: statestreet@gsa.gov. Please include `Final EIS Publication' in the subject line of the message.

• Mail: ATTN: Joseph Mulligan, U.S. General Services Administration, 230 S Dearborn St., Suite 3600, Chicago, IL 60604.

Further information, including an electronic copy of the Final EIS, may be found online at this website: https://www.gsa.gov/about-us/gsa-regions/region-5-great-lakes/buildings-and-facilities/illinois/chicago-202220-s-state-st-fps.

SUPPLEMENTARY INFORMATION:

Proposed Action

The Proposed Action is to address the future of the three vacant buildings at 202, 214 and 220 South State Street, east of the Dirksen Courthouse. The purpose of the Proposed Action is to address the security needs of the Dirksen Courthouse, respond to the Congressional intent and funding authorization provided in the 2022 Consolidated Appropriations Act, and manage Federal assets.

Preferred Alternative

GSA's Preferred Alternative is Viable Adaptive Reuse (Alternative B). GSA will pursue viable adaptive reuse under the NHPA section 111 outlease authority. GSA will issue a Request for Lease Proposals (RLP) to seek a reuse that meets the purpose and need for the proposed action.

The Viable Adaptive Reuse Alternative meets the purpose and need for the Proposed Action upon satisfying the security needs of the Dirksen Courthouse. Therefore, GSA will request market-driven redevelopment proposals with the following considerations. First, GSA shall consider and prioritize proposals that align with the viable adaptive reuse security criteria established for this proposed action and demonstrate the financial capability of the offeror to successfully execute. Second, GSA shall consider proposals with proposed deviations from the viable adaptive reuse security criteria that demonstrate the financial capability of the offeror to successfully execute. Any proposed deviation must be agreed to by GSA. There are no federal funds available for reuse or proposed deviations from the security criteria. The RLP will allow for redevelopment of all buildings and parcels at 202 through 220 South State Street or one, two, or all three buildings in a manner that addresses the purpose and need.

Summary of Potential Impacts

The Final EIS identifies, describes, and analyzes the potential effects of both the Action and No Action alternatives, including direct, indirect, and cumulative effects. GSA analyzed beneficial and adverse potential impacts of the following resources: cultural resources; aesthetic and visual resources; land use and zoning; community facilities; socioeconomics and environmental justice; greenhouse gas emissions; hazardous materials and solid waste; air quality; noise; health and safety; and transportation and traffic. The Final EIS considers measures that would avoid, minimize, or mitigate identified adverse impacts. The Final EIS identifies Viable Adaptive Reuse as the Environmentally Preferred Alternative.

National Historic Preservation Act

Consultation under section 106 of the NHPA is ongoing concurrently with the NEPA process. The Century Building (202 South State Street) and the Consumers Building (220 South State Street) are historic resources contributing to the Loop Retail Historic District, which are listed in the National Register of Historic Places (NRHP). In this Proposed Action, 214 South State Street is being treated as eligible for listing in the NRHP as a contributing resource to the Loop Retail Historic District. A draft Programmatic Agreement is included in the Final EIS. GSA will execute the Programmatic Agreement with the Illinois State Historic Preservation Officer and Advisory Council on Historic Preservation before issuing the Record of Decision.

William Renner,
Director, Facilities Management and Services Programs Division, Great Lakes Region 5, U.S. General Services Administration.

[FR Doc. 2024-16837 Filed 7-30-24; 8:45 am]

BILLING CODE 6820-CF-P